DEPARTMENT OF TRANSPORTATION

Research and Innovative Technology Administration

Agency Information Collection; Activity Under OMB Review; Survey of State Funding for Public Transportation

AGENCY: Research & Innovative Technology Administration (RITA), Bureau of Transportation Statistics (BTS), DOT.

ACTION: Notice.

SUMMARY: In compliance with the Paperwork Reduction Act of 1995 (44 U.S.C. 3501 et seq.), this notice announces that the Information Collection Request (ICR) described below is being forwarded to the Office of Management and Budget (OMB) for approval for a new information collection related to state funding of public transit. The ICR describes the nature of the information collection and its expected burden. A Federal Register notice, with a 60-day comment period soliciting comments on the following collection of information, was published on November 11, 2006 (70 FR 51409) and the comment period ended on January 12, 2007. The 60-day notice produced no comments.

DATES: Written comments should be submitted by February 22, 2007.

FOR FURTHER INFORMATION CONTACT: Ms. June Taylor Jones, Passenger Travel Program Manager, Room 3430, RITA, BTS, Department of Transportation, 400 Seventh Street, SW., Washington, DC 20590-0001. Telephone (202) 366-4743, Fax (202) 493-0568 or e-mail june.jones@dot.gov.

SUPPLEMENTARY INFORMATION: Title: Survey of State Funding for Public Transportation.

Type of Request: Approval of a new information collection.

OMB Control Number: New.

Affected Public: State DOT offices and the District of Columbia DOT.

Number of Respondents: 51.

Number of Responses: 51.

Total Annual Burden: 102 hours (Average estimate of 2 hours to complete the survey for each of 51 respondents resulting in a total of 102 hours).

Abstract: The Safe, Accountable, Flexible Efficient Transportation Equity Act—A Legacy for Users (SAFETEA-LU; H.R. 3, Section 5601) requires the BTS to provide “data, statistics, and analysis to transportation decision-makers” and to ensure that the statistics “are designed to support transportation decision-making by the Federal Government, State and local governments, metropolitan planning organizations, transportation-related associations, the private sector (including the freight community), and the public.” The Survey of State Funding for Public Transportation provides data that are used to create an annual summary report of state funding for transit in the 50 states and the District of Columbia. Each state DOT will provide the source of funding for transit programs (e.g., gas tax, sales tax, license fees), the programs funded (e.g., bus operations, rail operations), the amount of funding per program, the eligible uses for the funding (capital expenses, operating expenses, both), and how funds are distributed (discretionary, formula-based). The information in this report is widely used and is requested by Congress, state legislatures and local governing bodies. The information is useful in showing state comparisons in types of public transportation programs as well as commitment to fund public transportation capital and operating costs.

ADDRESSES: The agency seeks public comments on its proposed information collection. Comments should address whether the information will have practical utility; the accuracy of the agency's estimate of the burden of the proposed information collection; ways to enhance the quality, utility and clarity of the information to be collected; and ways to minimize the burden of the collection of information on respondents, including the use of automated collection techniques or other forms of information technology. Send comments to the Office of Information and Regulatory Affairs, Office of Management and Budget, 725-17th Street, NW., Washington, DC 20503, Attention: RITA Desk Officer.

Issued in Washington, DC on this 17th day of January, 2007.
William Bannister,
Assistant Director, Office of Advanced Studies, Research and Advanced Technology Administration, Bureau of Transportation Statistics, U.S. Department of Transportation.

[FR Doc. E7-912 Filed 1-22-07; 8:45 am]

BILLING CODE 4910-HY-P